DEPARTMENT OF HEALTH AND HUMAN SERVICES

Centers for Disease Control and Prevention

Notice of Award of a Sole Source Cooperative Agreement To Fund International Panel Physicians Association INC (IPPA)

AGENCY: Centers for Disease Control and Prevention (CDC), Department of Health and Human Services (HHS).

ACTION: Notice.

SUMMARY: The Centers for Disease Control and Prevention (CDC), located within the Department of Health and Human Services (HHS), announces the award of approximately $100,000, with an expected total funding of approximately $500,000 over a 5-year period, to International Panel Physicians Association Inc. The award will secure the services of IPPA to facilitate communication and training on the technical instructions that govern the pre-departure health assessment and treatment of U.S.-bound immigrants and refugees.

DATES: The period for this award will be September 1, 2024, through August 31, 2029.

FOR FURTHER INFORMATION CONTACT: Christie Cornell, Immigrant Refugee Health Branch, Centers for Disease Control and Prevention, 1600 Clifton Rd, Atlanta, GA 30329, Telephone: 470-895-2030, Email: qrk5@cdc.gov.

SUPPLEMENTARY INFORMATION: The sole source award will allow IPPA to support panel physicians and their staff to perform health assessment and management activities in immigrants and refugees bound for the U.S. IPPA has established a framework and mechanisms to develop and implement training opportunities. IPPA has demonstrated its ability to coordinate and implement education and training to improve the immigrant medical exam.

International Panel Physicians Association Inc is in a unique position to conduct this work, as it is the only qualified non-governmental organization with the technical and administrative capacity to conduct the specific set of activities needed to support the transfer of information to CDC/Division of Global Migration Health regarding overseas health assessment of U.S.-bound refugee populations for T.B. and infectious disease prevention and control activities.

Summary of the Award

Recipient: International Panel Physicians Association.

Purpose of the Award: The purpose of this award is to secure the services of IPPA to facilitate communication and training on the technical instructions that govern the pre-departure health assessment and treatment of U.S.-bound immigrants and refugees.

Amount of Award: The approximate year 1 funding amount will be $100,000 in Federal Fiscal Year (FFY) 2024 funds, with a total estimate of $500,000 for the 5-year period of performance, subject to availability of funds.

Authority: This program is authorized under the Public Health Service Act, Sections 307 and 317(k)(1) [42 U.S.C. 242l and 247b(k)(1)], as amended.

Period of Performance: September 1, 2024, through August 31, 2029.

Dated: January 24, 2024.
Jamie Legier,
Acting Director, Office of Grants Services, Acting Chief Grants Management Officer, Centers for Disease Control and Prevention.

[FR Doc. 2024-02503 Filed 2-6-24; 8:45 am]

BILLING CODE 4163-18-P